FEDERAL COMMUNICATIONS COMMISSION

47 CFR Part 73

[DA 01-400; Docket No. 00-16, RM-9805; MM Docket No. 00-146, RM-9937; MM Docket No. 00-147; RM-9938; MM Docket No. 00-212; RM-9988; MM Docket No. 00-213; RM-9989; MM Docket No. 00-214; RM 9990]

Radio Broadcasting Services; Burke, SD; Marietta, MS; Lake City, CO; Glenville, WV; Pigeon Forge, TN; and Lincolnton, GA

AGENCY: Federal Communications Commission.

ACTION: Final rule.

SUMMARY: This document grants six proposals that allot new channels to Burke, South Dakota; Marietta, Mississippi; Lake City, Colorado; Glenville, West Virginia; Pigeon Forge, Tennessee, Lincolnton, Georgia. See Supplementary Information, infra.

DATES: Effective April 2, 2001. Filing windows for these allotments will not be opened at this time. Instead, the issue of opening these allotments for auction will be addressed by the Commission in a subsequent Order.

FOR FURTHER INFORMATION CONTACT: Sharon P. McDonald, Mass Media Bureau, (202) 418-2180.

SUPPLEMENTARY INFORMATION: This is a synopsis of the Commission's Report and Order, MM Docket No. 00-16; MM Docket No. 00-146; and MM Docket No. 00-147; MM Docket No. 00-212; MM Docket No. 00-213; and MM Docket No. 00-214, adopted February 7, 2001, and released February 16, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission, at the request of NationWide Radio Stations, allots Channel 264A at Burke, South Dakota, as the community's first local aural transmission service. See 65 FR 12155, March 8, 2000. Channel 264A can be allotted at Burke in compliance with the Commission's minimum distance separation requirements with a site restriction of 3.5 kilometers (2.2 miles) east to avoid a short-spacing to the vacant allotment site for Channel 264A, Mission, South Dakota. The coordinates for Channel 264A at Burke are 43-11-06 North Latitude and 99-15-02 West Longitude.

The Commission, at the request of Robert Sanders, allots Channel 250A at Marietta, Mississippi, as the community's first local aural transmission service. See 65 FR 53689, September 5, 2000. Channel 250A can be allotted to Marietta in compliance with the Commission's minimum distance separation requirements distance separation requirements with a site restriction of 1.3 kilometers (0.8 miles) east to avoid short-spacings to the licensed sites of Station WWMS(FM), Channel 248C1, Oxford, Mississippi, Station WKGL(FM), Channel 249A, Russellville, Alabama, and Station WZLQ(FM), Channel 253C1, Tupelo, Mississippi. The coordinates for Channel 250A at Marietta are 34-30—20 North Latitude and 88-27-18 West Longitude.

The Commission, at the request of The Parker Radio Project, allots Channel 247A at Lake City, Colorado as the community's first local aural transmission service. See 65 FR 53689, September 5, 2000. Channel 247A can be allotted at Lake City in compliance with the Commission's minimum distance separation requirements at city reference coordinates. The coordinates for Channel 247A are 38-01-47 North Latitude and 107-18-52 West Longitude.

The Commission, at the request of Donald Staats d/b/a Media Staats, allots Channel 299A at Glenville, West Virginia, as the community's first local aural transmission service. See 65 FR 67691, November 13, 2000. Channel 299A can be allotted at Glenville in compliance with the Commission's minimum distance separation requirements with a site restriction 1.0 kilometers (0.6 miles) southwest to avoid a short-spacing to the licensed site of Station WFSP-FM, Channel 299A, Kingwood, West Virginia. The coordinates for Channel 299A at Glenville are 38-55-43 North Latitude and 80-50-47 West Longitude.

The Commission, at the request of Bernice P. Hedrick, allots Channel 292A at Pigeon Forge, Tennessee, as the community's first local aural transmission service. See 65 FR 67691, November 13, 2000. Channel 292A can be allotted at Pigeon Forge in compliance with the Commission's minimum distance separation requirements with a site restriction 7.5 kilometers (4.7 miles) southeast to avoid a short-spacing to the licensed site of Station WRIL-FM, Channel 292A, Pineville, Kentucky. The coordinates for Channel 292A at Pigeon Forge are 33-43-33 North Latitude and 83-31-18 West Longitude.

The Commission, at the request of H. David Hedrick, allots Channel 254A at Lincolnton, Georgia, as the community's first local aural transmission service. See 65 FR 67691, November 13, 2000. Channel 254A can be allotted at Lincolnton in compliance with the Commission's minimum distance separation requirements with a site restriction of 13 kilometers (8.1 miles) south to avoid a short-spacing to the licensed site of Station WSPA-FM, Channel 255C, Spartanburg, South Carolina. The coordinates for Channel 254A at Lincolnton are 33-40-37 North Latitude and 82-30-18 West Longitude.

List of Subjects in 47 CFR Part 73

Radio broadcasting.

Part 73 of Title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Colorado, is amended by adding Lake City, Channel 247A.

3. Section 73.202(b), the Table of FM Allotments under Georgia, is amended by adding Lincolnton, Channel 254A.

4. Section 73.202(b), the Table of FM Allotments under Mississippi, is amended by adding Marietta, Channel 250A.

5. Section 73.202(b), the Table of FM Allotments under South Dakota, is amended by adding Burke, Channel 264A.

6. Section 73.202(b), the Table of FM Allotments under Tennessee, is amended by adding Pigeon Forge, Channel 292A.

7. Section 73.202(b), the Table of FM Allotments under West Virginia, is amended by adding Glenville, Channel 299A.

Federal Communications Commission.
John A. Karousos,
Chief, Allocations Branch, Policy and Rules Division, Mass Media Bureau.

[FR Doc. 01-4910 Filed 2-28-01; 8:45 am]

BILLING CODE 6712-01-U